DEPARTMENT OF ENERGY

[OE Docket No. PP-397]

Application To Rescind Presidential Permit; Joint Application for Presidential Permit; Maine Public Service Company and Bangor Hydro Electric Company

AGENCY: Office of Electricity Delivery and Energy Reliability, DOE.

ACTION: Notice of application.

SUMMARY: Maine Public Service Company (Maine Public) and Bangor Hydro Electric Company (Bangor Hydro) filed a joint application to voluntarily transfer the Maine Public facilities authorized by Presidential Permit No. PP-89, as amended, to Bangor Hydro. The application requested that the Department of Energy (DOE) rescind the Presidential permit held by Maine Public and simultaneously issue a permit to Bangor Hydro under its new name, Emera Maine (Emera), covering the same international transmission facilities.

DATES: Comments or motions to intervene must be submitted on or before May 28, 2014.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260, or by email to Christopher.Lawrence@hq.doe.gov, or Katherine Konieczny (Program Attorney) at 202-586-0503.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of facilities, in accordance with DOE regulations at 10 CFR 205.323, the existing permit holder and the transferee are required to file a joint application with DOE that includes a statement of reasons for the transfer.

On December 30, 2013, Maine Public and Bangor Hydro jointly filed an application with DOE requesting rescission of Presidential Permit No. PP-89, as amended, issued to Maine Public and a simultaneous issuance of a Presidential permit to Bangor Hydro for the same international transmission facilities. The international transmission facilities authorized by Presidential Permit No. PP-89, as amended, includes one 345 kilovolt (kV) transmission line running from the Canadian border into Maine.

The requested transfer of the permit is due to the merger of Maine Public and Bangor Hydro that was finalized by the Maine Public Utilities Commission on December 17, 2013, and effective January 1, 2014. The Applicants have requested that the issuance of the permit to Bangor Hydro be made effective upon the transfer of facilities, which occurred on January 1, 2014.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Nathan Martell, Bangor Hydro Electric Company, P.O. Box 932, Bangor, Maine 04402 and Bonnie A. Suchman, Troutman Sander LLP, 401 9th St. NW., Suite 1000, Washington, DC 20004.

Before a Presidential permit may be granted or amended, DOE must determine that the proposed action will not adversely impact on the reliability of the U.S. electric power supply system. In addition, DOE must consider the environmental impacts of the proposed action (i.e., granting the Presidential permit or amendment, with any conditions and limitations, or denying the permit) pursuant to the National Environmental Policy Act of 1969. DOE also must obtain the concurrences of the Secretary of State and the Secretary of Defense before taking final action on a Presidential permit application.

Copies of this application will be made available, upon request, for public inspection and copying at the address provided above. In addition, the application may be reviewed or downloaded electronically at http://energy.gov/oe/services/electricity-policy-coordination-and-implementation/international-electricity-regulatio-2. Upon reaching the home page, select “Pending Applications.”

Issued in Washington, DC, on April 22, 2014.
Christopher A. Lawrence,
Electricity Policy Analyst, Office of Electricity Delivery, and Energy Reliability.

[FR Doc. 2014-09649 Filed 4-25-14; 8:45 am]

BILLING CODE 6450-01-P